DEPARTMENT OF AGRICULTURE

Forest Service

Forestry Research Advisory Council

AGENCY: Forest Service, USDA.

ACTION: Call for nominations.

SUMMARY: The United States Department of Agriculture (USDA) is seeking nominations for the Forestry Research Advisory Council of the Agriculture and Food Act of 1981 (the Act), and the Federal Advisory Committee Act. Additional information on the FRAC can be found by visiting the FRAC Web site at: http://www.fs.fed.us/research/about/forestry-research-council/.

DATES: Written nominations must be received by October 16, 2017. Nominations must contain a completed application packet that includes the nominee's name, resume, and completed Form AD-755 (Advisory Committee Membership Background Information). The package must be sent to the address below.

ADDRESSES: Tracy C. Hancock, USDA Forest Service, Office of the Deputy Chief, Research and Development, 201 14th Street SW., Mail Stop 1120, Washington, DC 20250-11 by express mail or overnight courier service. If sent via the U.S. Postal Service, they must be sent to the following address: U.S. Department of Agriculture, Forest Service, Office of the Deputy Chief, Research and Development, Mail Stop 1120, 1400 Independence Avenue SW., Washington, DC 20250-1120.

FOR FURTHER INFORMATION CONTACT: Tracy C. Hancock, FRAC Designated Federal Official (DFO), USDA Forest Service, Office of the Deputy Chief, Research and Development, by telephone at (202) 205-1724, or by email at tchancock@fs.fed.us or Sharon Parker, Ph.D., FRAC Executive Secretarry, USDA Forest Service, Office of the Deputy Chief, Research and Development by telephone at (703) 340-7864, or by email at sparker01@fs.fed.us. Individuals who use telecommunication devices for the deaf (TDD) may call the Federal Information Relay Service (FIRS) at 1-800-877-8339 between 8 a.m. and 5 p.m., Eastern Standard Time, Monday through Friday.

SUPPLEMENTARY INFORMATION:

Background

The FRAC will be comprised of no more than 20 members approved by the Secretary of Agriculture. The FRAC membership will be fairly balanced in terms of the points of view represented, functions to be performed, and will represent a broad array of expertise, leadership and relevancy to a membership category. Geographic balance and a balanced distribution among the categories are also important. The FRAC members will serve 3-year terms, and will meet annually, or as often as necessary. The FRAC shall include a maximum of five representation from each of the four following categories: (1) Federal and State Agencies; (2) Forest Industry; (3) Academic; and (4) Voluntary Organization. Vacancies on the FRAC will be filled in the manner in which the original appointment was made. Members of the FRAC shall serve without compensation. FRAC members may be allowed travel expenses and per diem for attendance at council meetings, subject to approval of the DFO responsible for administrative support to the FRAC.

Nomination and Application Information

The appointment of members to the FRAC will be made by the Secretary of Agriculture. The public is invited to submit nominations for membership on the FRAC, either as a self-nomination or a nomination of any qualified and interested person. Any individual or organization may nominate one or more qualified persons to represent the interest areas listed above. To be considered for membership, nominees must submit a:

1. Identify what interest group they would represent and how they are qualified to represent that interest group;

2. Provide a cover letter stating why they want to serve on the FRAC and what they can contribute;

3. Provide a resume showing their past experience in working successfully as part of a group working on forest research activities; and

4. Complete Form AD-755, Advisory Committee Membership Background Information. The Form AD-755 may be obtained from Forest Service contact person or from the following Web site: https://www.ocio.usda.gov/sites/default/files/docs/2012/AD-755%20-%20Approved%20Master%202015.pdf. All nominations will be vetted by USDA.

Equal opportunity practices in accordance with USDA policies shall be followed in all in all appointments to FRAC. To ensure that the recommendations of the FRAC have taken into account the needs of the diverse groups served by USDA, membership will, to the extent practicable, include individuals with demonstrated ability to represent all racial and ethnic groups, women and men, and persons with disabilities.

Dated: August 14, 2017.
Malcom Shorter,
Deputy Assistant Secretary for Administration.

[FR Doc. 2017-18557 Filed 8-31-17; 8:45 am]

BILLING CODE 3411-15-P